DEPARTMENT OF LABOR

Occupational Safety and Health Administration

29 CFR Part 1926

[Docket ID-OSHA-2007-0066]

RIN 1218-AC96

Cranes and Derricks in Construction: Operator Qualification

AGENCY: Occupational Safety and Health Administration (OSHA), Labor.

ACTION: Notice of proposed rulemaking; extension of public comment period.

SUMMARY: On May 21, 2018, OSHA published a notice of proposed rulemaking (NPRM) titled “Cranes and Derricks in Construction: Operator Qualification.” The period for submitting public comments is being extended by 15 days to allow parties affected by the rule additional time to review the proposed rule and collect information and data necessary for comment.

DATES: Comments: The comment period for the proposed rule published in the Federal Register on May 21, 2018 (83 FR 23534), is extended. Submit comments to the proposed rule, including comments to the information collection requirements (described under the section titled “Agency Determinations”), hearing requests, and other information by July 5, 2018. All submissions must bear a postmark or provide other evidence of the date submitted.

ADDRESSES: Submit comments, hearing requests, and other material, identified by Docket No. OSHA-2007-0066, using any of the following methods:

Electronically: Submit comments and attachments, as well as hearing requests and other information, electronically at http://www.regulations.gov, the Federal e-Rulemaking Portal. This docket may include several Federal Register notices for active rulemakings; therefore it is necessary to select the correct notice, or its ID number, to submit comments for this rulemaking. After accessing the docket (OSHA-2007-0066), check the “proposed rule” box in the column headed “Document Type,” find the document posted on the date of publication of this document, and click the “Submit a Comment” link. Additional instructions for submitting comments are available on the http://www.regulations.gov homepage.

Facsimile: OSHA allows facsimile transmission of comments that are ten pages or fewer in length (including attachments). Fax these documents to the OSHA Docket Office at (202) 693-1648. OSHA does not require submission of hard copies of these documents. For additional attachments that supplement comments submitted by facsimile (e.g., studies, journal articles), commenters must submit these attachments to the OSHA Docket Office, Technical Data Center, Room N-3653, OSHA, U.S. Department of Labor, 200 Constitution Ave. NW, Washington, DC 20210. These attachments must clearly identify the sender's name, the date, subject, and the docket number (OSHA-2007-0066).

Regular mail, express delivery, hand delivery, and messenger (courier) service: Submit comments and any additional material to the OSHA Docket Office, RIN No. 1218-AC86, Technical Data Center, Room N-3653, OSHA, U.S. Department of Labor, 200 Constitution Ave. NW, Washington, DC 20210; telephone: (202) 693-2350, TTY number: (877) 889-5627. Contact the OSHA Docket Office for information about security procedures concerning delivery of materials by express delivery, hand delivery, and messenger service. The Docket Office will accept deliveries (express delivery, hand delivery, messenger service) during the Docket Office's normal business hours, 10:00 a.m. to 3:00 p.m., ET.

Information Collection Requirements: OSHA welcomes comments on the information collection requirements contained in this rule on the same basis as for any other aspect of the rule. Interested parties may also submit comments about the information collection requirements directly to the Office of Information and Regulatory Affairs, Attn: OMB Desk Officer for DOL-OSHA (RIN 1218-AC96), Office of Management and Budget, Room 10235, 725 17th Street NW, Washington, DC 20503, Fax: (202) 395-6881 (this is not a toll-free number), email: OIRA_submission@omb.eop.gov. See Paperwork Reduction Act section of this preamble for particular areas of interest.

Instructions: All submissions must include the agency's name, the title of the rulemaking (Cranes and Derricks in Construction: Operator Qualification), and the docket number (OSHA-2007-0066). Absent copyright protections or other restrictions, OSHA will place comments and other material, including any personal information, in the public docket without revision, and the comments and other material will be available online at http://www.regulations.gov. Therefore, commenters should not submit statements they do not want made available to the public, or submit comments that contain personal information (either about themselves or others) such as Social Security Numbers, birth dates, and medical data.

Docket: To read or download comments or other material in the electronic docket, go to http://www.regulations.gov or to the OSHA Docket Office at the above address. Some information submitted (e.g., copyrighted material) is not available publicly to read or download through this website. All submissions, including copyrighted material, are available for inspection at the OSHA Docket Office. Contact the OSHA Docket Office for assistance in locating docket submissions.

FOR FURTHER INFORMATION CONTACT: General information and press inquiries: Mr. Frank Meilinger, OSHA Office of Communications; telephone: (202) 693-1999; email: Meilinger.Francis2@dol.gov.

Technical inquiries: Mr. Vernon Preston, Directorate of Construction; telephone: (202) 693-2020; fax: (202) 693-1689; email: preston.vernon@dol.gov.

Copies of this Federal Register notice and news releases: Electronic copies of these documents are available at OSHA's web page at http://www.osha.gov.

SUPPLEMENTARY INFORMATION:

I. Extension of the Comment Period

On May 21, 2018, OSHA published a NPRM titled “Cranes and Derricks in Construction: Operator Qualification” (83 FR 23534). In the NPRM, OSHA proposed to amend 29 CFR part 1926, subpart CC, to revise sections that address crane operator training, certification/licensing, and competency. The purpose of these amendments are to: require comprehensive training of operators; remove certification by capacity from certification requirements; clarify and permanently extend the employer duty to evaluate potential operators for their ability to safely operate equipment covered by subpart CC; and require documentation of that evaluation.

The public comment period for this NPRM was to conclude on June 20, 2018, 30 days after publication of the NPRM. However, OSHA received requests from stakeholders for an extension of the public comment period (OSHA-2007-0066-0683 and -0693). These requests state that, given the complexity and significance of this NPRM, more time for submitting comments was necessary to gather information from members of the organizations and develop meaningful comments.

OSHA agrees to an extension and believes that a 15 day extension of the public comment period is a sufficient amount of time to address these concerns in light of the short period of time remaining before the deadline for crane operator certification. Therefore, the public comment period will now conclude July 5, 2018. Comments can be submitted by following the procedures listed under ADDRESSES section of this notice.

List of Subjects in 29 CFR Part 1926

Certification, Construction industry, Cranes, Derricks, Occupational safety and health, Qualification, Safety, Training.

Signed at Washington, DC, on June 15, 2018.
Loren Sweatt,
Deputy Assistant Secretary of Labor for Occupational Safety and Health.

[FR Doc. 2018-13280 Filed 6-15-18; 4:15 pm]

BILLING CODE 4510-26-P